DEPARTMENT OF TRANSPORTATION

Office of the Secretary

Notice of Applications for Certificates of Public Convenience and Necessity and Foreign Air Carrier Permits Filed Under Subpart Q During the Week Ending April 28, 2000

The following Applications for Certificates of Public Convenience and Necessity and Foreign Air Carrier Permits were filed under Subpart Q of the Department of Transportation's Procedural Regulations (See 14 CFR 302.1701 et seq.). The due date for Answers, Conforming Applications, or Motions to modify Scope are set forth below for each application. Following the Answer period DOT may process the application by expedited procedures. Such procedures may consist of the adoption of a show-cause order, a tentative order, or in appropriate cases a final order without further proceedings.

Docket Number: OST-1999-6319.

Date Filed: April 28, 2000.

Due Date for Answers, Conforming Applications, or Motion to Modify Scope: May 19, 2000.

Description: Amendment of Northwest Airlines, Inc. to its application pursuant to 49 U.S.C. 41102 and subpart B, of its Route 564 U.S.-Mexico certificate authority to request that the Department add a Houston-Mazatlan segment to Northwest's Route 564.

Andrea M. Jenkins,
Federal Register Liaison.

[FR Doc. 00-11690 Filed 5-9-00; 8:45 am]

BILLING CODE 4910-62-P